ENVIRONMENTAL PROTECTION AGENCY

[FRL-10005-99-Region 6]

Clean Air Act Operating Permit Program; Petitions for Objection to State Operating Permit for Dow Chemical Company, Dow Salt Dome Operations, Brazoria County, Texas

AGENCY: Environmental Protection Agency (EPA).

ACTION: Notice of final Order on Petition for objection to Clean Air Act title V operating permit.

SUMMARY: The Environmental Protection Agency (EPA) Administrator signed an Order dated February 18, 2020, granting a Petition dated August 31, 2015 from the Environmental Integrity Project and Sierra Club. The Petition requested that the EPA object to a Clean Air Act (CAA) title V operating permit issued by the Texas Commission on Environmental Quality (TCEQ) to Dow Chemical Company (Dow) for its Dow Salt Dome Operations located in Brazoria County, Texas.

ADDRESSES: The EPA requests that you contact the individual listed in the FOR FURTHER INFORMATION CONTACT section to view copies of the final Order, the Petition, and other supporting information. You may review copies of the final Order, the Petition, and other supporting information at the EPA Region 6 Office, 1201 Elm Street, Dallas, Texas 75270-2102. You may view the hard copies Monday through Friday, from 9 a.m. to 3 p.m., excluding federal holidays. If you wish to examine these documents, you should make an appointment at least 24 hours before the visiting day. Additionally, the final Order and Petition are available electronically at: https://www.epa.gov/title-v-operating-permits/title-v-petition-database.

FOR FURTHER INFORMATION CONTACT: Aimee Wilson, EPA Region 6, (214) 665-7596, wilson.aimee@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from the Environmental Integrity Project and Sierra Club dated August 31, 2015, requesting that the EPA object to the issuance of the facility's Federal Operating Permit Number O2212, issued by TCEQ to Dow Chemical Company's Salt Dome Operations in Brazoria County, Texas. The Petition claims the proposed permit improperly incorporates by reference confidential operational limits even though operational limits are required to be federally enforceable by being publicly available and listed in the proposed permit.

On February 18, 2020, the EPA Administrator issued an Order granting the Petition requesting that the EPA Administrator object to the title V operating permit. The Order explains the basis for EPA's decision.

Dated: March 13, 2020.
Kenley McQueen,
Regional Administrator, Region 6.

[FR Doc. 2020-05777 Filed 3-19-20; 8:45 am]

BILLING CODE 6560-50-P